DEPARTMENT OF AGRICULTURE

Animal and Plant Health Inspection Service

[Docket No. APHIS-2020-0047]

Privacy Act of 1974; System of Records

AGENCY: Animal and Plant Health Inspection Service, USDA.

ACTION: Notice of a new system of records.

SUMMARY: Pursuant to the Privacy Act of 1974 and Office of Management and Budget Circular No. A-108, the U.S. Department of Agriculture gives notice that a component agency, the Animal and Plant Health Inspection Service (APHIS) proposes to add a new system of records to its inventory of records. The system of records being proposed is the APHIS Student Outreach Programs System, USDA/APHIS-26. The purpose of this system is to facilitate the submission and review of information submitted by students and their parents or guardians as part of the application process for student outreach programs.

DATES: In accordance with 5 U.S.C. 552a(e)(4) and (11), this notice is applicable upon publication, subject to a 30-day notice and comment period in which to comment on the routine uses described in the “Routine Uses of Records Maintained in the System” section of this system of records notice. Please submit any comments by January 29, 2025.

ADDRESSES: You may submit comments by either of the following methods:

• Federal eRulemaking Portal: Go to www.regulations.gov. Enter APHIS-2020-0047 in the Search field. Select the Documents tab, then select the Comment button in the list of documents.

• Postal Mail/Commercial Delivery: Please send one copy of your comment to Docket No. APHIS-2020-0047, Regulatory Analysis and Development, PPD, APHIS, Station 2C-10.16, 4700 River Road, Unit 25, Riverdale, MD 20737-1238.

Supporting documents and any comments we receive on this docket may be viewed at www.regulations.gov or in our reading room, which is located in Room 1620 of the USDA South Building, 14th Street and Independence Avenue SW, Washington, DC. Normal reading room hours are 8 a.m. to 4:30 p.m., Monday through Friday, except holidays. To be sure someone is there to help you, please call (202) 799-7039 before coming.

FOR FURTHER INFORMATION CONTACT: For general questions, please contact Ms. Sophia Kirby, Chief, Outreach and Communications, OCRDI, 4700 River Road, Unit 92, Riverdale, MD 20737; (301) 851-4192; email: sophia.l.kirby@usda.gov. For Privacy Act questions concerning this system of records notice, please contact Director, Freedom of Information and Privacy Act Staff, 4700 River Road, Unit 50, Riverdale, MD 20737; (301) 851-4076; email: APHISPrivacy@usda.gov. For USDA Privacy Act questions, please contact the USDA Chief Privacy Officer, Information Security Center, Office of Chief Information Officer, USDA, Jamie L. Whitten Building, 1400 Independence Ave. SW, Washington, DC 20250; email: USDAPrivacy@usda.gov.

SUPPLEMENTARY INFORMATION: The Animal and Plant Health Inspection Service (APHIS) of the United States Department of Agriculture (USDA) is proposing to add a new system of records, titled APHIS Student Outreach Programs System, USDA/APHIS-26, that APHIS' Office of Civil Rights, Diversity, and Inclusion (OCRDI) will use to facilitate the submission and review of information submitted by students and their parents or guardians as part of the application process for outreach programs such as AgDiscovery. (AgDiscovery is a summer outreach program designed to help teenagers explore careers in areas such as plant and animal science, wildlife management, and agribusiness (https://www.aphis.usda.gov/careers/students-grads/agdiscovery).) APHIS Student Outreach Programs challenge students to consider the importance of American agriculture, and the role USDA plays in this critical mission. Students participate in experiential learning activities on and off campus, attend workshops, lectures, laboratory, and field exercises, in addition to a variety of cultural and teambuilding activities. The maintenance of this system is conducted in a manner consistent with the guidelines established in 7 U.S.C. 2279 (Farming Opportunities Training and Outreach).

The application process for OCRDI's outreach programs provides information needed to discover and explore a student's interest in agriculture and provides recommendations from others who are familiar with the student's character. That information, which is collected annually from applicants, will be used to evaluate and select the participants for APHIS Student Outreach Programs. The application process also provides the agency and participating educational institutions information required to evaluate and rate the applicants.

Individuals covered by the system include students who apply for APHIS Student Outreach Programs and their parent(s) or guardian(s).

APHIS will share information from the system pursuant to the requirements of the Privacy Act and, in the case of its routine uses, when the disclosure is compatible with the purpose for which the information was compiled. A full list of routine uses is included in the routine uses section below.

SYSTEM NAME AND NUMBER:

APHIS Student Outreach Programs System, USDA/APHIS-26.

SECURITY CLASSIFICATION:

Unclassified.

SYSTEM LOCATION:

The electronic component is completed via the IBM Forms Filler for application submissions. This component and the paper files are located in the Office of Civil Rights, Diversity, and Inclusion, 4700 River Road, Unit 92, Riverdale, MD 20737.

SYSTEM MANAGER(S):

APHIS Student Outreach Programs Manager, APHIS, 4700 River Road, Unit 92, Riverdale, MD 20737.

AUTHORITY FOR MAINTENANCE OF THE SYSTEM:

The maintenance of this system is conducted in a manner consistent with the guidelines established through the Farming Opportunities Training and Outreach found in 7 U.S.C. 2279.

PURPOSE(S) OF THE SYSTEM:

APHIS Student Outreach Programs System is used to facilitate the submission and review of information submitted by students, their parents, or guardians, and those that provide recommendations for the students as part of the application process for Office of Civil Rights, Diversity, and Inclusion programs such as AgDiscovery. These programs are designed to help teenagers explore careers in areas such as plant and animal science, wildlife management, and agribusiness.

The application process provides the information needed to assess a student's interest in agriculture, and provides recommendations from others who are familiar with the student's interests and character. The information, which is collected annually from applicants, will ultimately be used to select the participants for APHIS Student Outreach Programs. The application process also provides the APHIS and the participating educational institutions the information to rate and rank the applicants.

CATEGORIES OF INDIVIDUALS COVERED BY THE SYSTEM:

Categories of individuals covered by the system include students who apply for APHIS Student Outreach Programs, their parent(s) or guardian(s), and individuals mentioned or referenced in documents entered into the system.

CATEGORIES OF RECORDS IN THE SYSTEM:

The categories of records in the system include, but are not limited to, the name, address, phone number(s), gender, grade, name of educational institution, name of parent(s) or guardian(s) and their contact information, emergency contact information, email address, essay, volunteer service, extracurricular activities, student contract, parental release form, applicant rating and ranking, past program participation, photo release, agency comments, and individuals mentioned or referenced in documents entered into the system. Records also include a letter of recommendation form that is completed by a teacher, educational institution counselor or administrator, as well as other persons with personal knowledge of the student. (Three letters of recommendation are required for applicants.) The name of the specific host educational institution associated with the student is also maintained in the system, as well as information about the applicant's past participation in the program.

RECORD SOURCE CATEGORIES:

The sources for the information in this system comes directly from the applicant, the applicant's parent(s) or guardian(s), and those who have provided recommendation letters for them, such as parents, teachers, and other persons.

ROUTINE USES OF RECORDS MAINTAINED IN THE SYSTEM, INCLUDING CATEGORIES OF USERS AND THE PURPOSES OF SUCH USES:

In addition to those disclosures generally permitted under 5 U.S.C. 552a(b) of the Privacy Act, records contained in the system may be disclosed outside USDA as a routine use under 5.U.S.C. 552a(b)(3), to the extent that such uses are compatible with the purposes for which the information was collected. Such permitted routine uses include the following:

(1) To the partnering educational institutions that receive the funding via the cooperative agreement to administer the APHIS Student Outreach Programs and assists in the application review, rating, and selection of participants;

(2) When a record on its face, or in conjunction with other records, indicates a violation or potential violation of law, whether civil, criminal, or regulatory in nature, and whether arising by general statute or particular program, statute, or by regulation, rule, or order issued pursuant thereto, APHIS may disclose the record to the appropriate agency, whether Federal, foreign, State, Tribal, local, or other public authority responsible for enforcing, investigating, or prosecuting such violation or charged with enforcing or implementing the statute, rule, regulation, or order issued pursuant thereto, if the information disclosed is relevant to any enforcement, regulatory, investigative, or prosecutive responsibility of the receiving entity;

(3) To the Department of Justice when: (a) USDA or any component thereof; or (b) any employee of USDA in his or her official capacity, or any employee of the agency in his or her individual capacity where the Department of Justice has agreed to represent the employee; or (c) the United States Government, is a party to litigation or has an interest in such litigation, and USDA determines that the records are relevant and necessary to the litigation and the use of such records by the Department of Justice is for a purpose that is compatible with the purpose for which USDA collected the records;

(4) In an appropriate proceeding before a court, grand jury, or administrative or adjudicative body or official, when the USDA or other agency representing the USDA determines that the records are both relevant and necessary to the proceeding; or in an appropriate proceeding before an administrative or adjudicative body when the adjudicator determines the records to be relevant to the proceeding;

(5) To appropriate agencies, entities, and persons when: (a) USDA suspects or has confirmed that there has been a breach of the system of records; (b) USDA has determined that as a result of the suspected or confirmed breach there is a risk of harm to individuals, USDA (including its information systems, programs, and operations), the Federal Government, or national security; and (c) the disclosure made to such agencies, entities, and persons is reasonably necessary to assist in connection with USDA's efforts to respond to the suspected or confirmed compromise and prevent, minimize, or remedy such harm;

(6) To another Federal agency or Federal entity, when information from this system of records is reasonably necessary to assist the recipient agency or entity in (a) responding to a suspected or confirmed breach or (b) preventing, minimizing, or remedying the risk of harm to individuals, the recipient agency, or entity (including its information systems, programs, and operations), the Federal Government, or national security, resulting from a suspected or confirmed breach;

(7) To a Congressional office in response to an inquiry from that Congressional office made at the written request of the individual about whom the record pertains;

(8) To contractors and their agents, grantees, experts, consultants, and others performing or working on a contract, service, grant, cooperative agreement, or other assignment for the USDA, when necessary to accomplish an agency function related to this system of records; and

(9) To the National Archives and Records Administration (NARA) or other Federal Government agencies pursuant to records management activities conducted under 44 U.S.C. 2904 and 2906.

POLICIES AND PRACTICES FOR STORAGE OF RECORDS:

Records are maintained in paper copy and electronically. Paper records are maintained at APHIS Headquarters at 4700 River Road Unit 92, Riverdale, MD 20737. The office is locked during non-business hours and requires the presentation of employee identification for admittance at all times. Electronic copies are housed on the USDA secured computer system and are entered into an electronic database stored on the USDA secured computer system at the address above in Riverdale, MD.

POLICIES AND PRACTICES FOR RETRIEVAL OF RECORDS:

The records can be retrieved by the name of the applicant or applicant's parent or guardian and educational institution.

POLICIES AND PRACTICES FOR RETENTION AND DISPOSAL OF RECORDS:

APHIS has requested records disposition authority from NARA. Records will be retained until appropriate disposition authority is obtained, and records will then be disposed of in accordance with the authority granted.

ADMINISTRATIVE, TECHNICAL, AND PHYSICAL SAFEGUARDS:

External users (educational institution coordinators) will only be able to access applications submitted on behalf of their respective organizations and must obtain Identity Assurance Level (IAL) 2 eAuthentication access credentials. Access to system data is granted by the system owner on a limited basis to participating educational institutions, OCRDI student program employees and administrators, and applicants and educational institutions are granted access to their own basic information. These entities can use their identification and password to access the system and modify their own personal information and information within their own profile; however, they do not have access to modify sensitive data or data that is locked/password protected.

Marketing and Regulatory Programs Information Technology (MRP IT) has access to user information on a limited basis allowing them to perform only their specific job functions. Access is limited to administrators on a least privileged basis utilizing separation of duties. MRP IT application support staff have accounts with the appropriate level of access and permissions that allow them to access and modify user data. These permissions are granted by a limited number of management personnel.

Access is monitored by USDA Office of the Chief Information Officer, Cybersecurity and Privacy Operations Center, and MRP IT application support staff to ensure authorized and appropriate use of the data. To gain full access to the system, internal users must have an IAL eAuthentication using a personal identity verification (PIV) card.

RECORD ACCESS PROCEDURES:

All requests for access to records must be in writing and should be submitted to the APHIS Privacy Act Officer, 4700 River Road Unit 50, Riverdale, MD 20737; or by facsimile (301) 734-5941; or by email APHISPrivacy@usda.gov. In accordance with 7 CFR 1.112, (Procedures for requests pertaining to individual records in a record system), the request must include the full name of the individual making the request; the name of the system of records; any other information specified in the system notice; and preference of inspection, in person or by mail. In accordance with 7 CFR 1.113, prior to inspection of the records, the requester shall present sufficient identification (e.g., driver's license, employee identification card) to establish that the requester is the individual to whom the records pertain. In addition, if an individual submitting a request for access wishes to be supplied with copies of the records by mail, the requester must include with his or her request sufficient data for the agency to verify the requester's identity.

CONTESTING RECORD PROCEDURES:

Individuals seeking to contest or amend records maintained in this system of records must direct their request to the address indicated in the “RECORD ACCESS PROCEDURES” paragraph, above and must follow the procedures set forth in 7 CFR 1.116, (Request for correction or amendment to record). All requests must state clearly and concisely what record is being contested, the reasons for contesting it, and the proposed amendment to the record.

NOTIFICATION PROCEDURES:

Individuals may be notified if a record in this system of records pertains to them when the individuals request information utilizing the same procedures as those identified in the “RECORD ACCESS PROCEDURES” paragraph, above.

EXEMPTIONS CLAIMED FOR THE SYSTEM:

None.

HISTORY:

N/A.

A report on this new system of records, required by 5 U.S.C. 552a(r), as implemented by Office of Management and Budget Circular A-108, was sent to the Chairman and Ranking Member of the House Committee on Oversight and Reform, Chairman and Ranking Member of the Senate Committee on Homeland Security and Governmental Affairs, and the Administrator of the Office of Management and Budget's Office of Information and Regulatory Affairs.

Done in Washington, DC, this 23rd day of December 2024.
Donna Lalli,
Acting Administrator, Animal and Plant Health Inspection Service.

[FR Doc. 2024-31321 Filed 12-27-24; 8:45 am]

BILLING CODE 3410-34-P